ENVIRONMENTAL PROTECTION AGENCY

40 CFR Part 52

[NC-97-200319(w); FRL-7539-8]

Approval and Promulgation of Implementation Plans for North Carolina: Withdrawal of Direct Final Rule

AGENCY: Environmental Protection Agency (EPA).

ACTION: Withdrawal of direct final rule.

SUMMARY: Due to adverse comment, EPA is withdrawing the direct final rule published June 6, 2003, (see 68 FR 33873) approving revisions to the North Carolina State Implementation Plan. The purpose of the revision to rule 15A NCAC 2D.0521 was to provide sources using continuous opacity monitors (COM) the same opportunity to comply with the visible emissions rule as sources that do not use COM devices. EPA stated in the direct final rule that if EPA received adverse comment by July 7, 2003, the rule would be withdrawn and not take effect. EPA subsequently received adverse comment. EPA will address the comment in a subsequent final action based upon the proposed action published on June 6, 2003 (see 68 FR 33898). EPA will not institute a second comment period on this action.

DATES: The direct final rule is withdrawn as of August 5, 2003.

FOR FURTHER INFORMATION CONTACT: Rosymar De La Torre Colón, Air Planning Branch, U.S. Environmental Protection Agency, Region 4, 61 Forsyth Street, SW., Atlanta, Georgia 30303-8960. Phone number: 404/562-8965; E-mail: delatorre.rosymar@epa.gov.

List of Subjects in 40 CFR Part 52

Environmental protection, Air pollution control, Intergovernmental relations, Ozone, Particulate matter, Reporting and recordkeeping requirements, Volatile organic compounds.

Authority: 42 U.S.C. 7401 et seq.

Dated: July 25, 2003.
A. Stanley Meiburg,
Acting Regional Administrator, Region 4.

[FR Doc. 03-19926 Filed 8-4-03; 8:45 am]

BILLING CODE 6560-50-P